DEPARTMENT OF COMMERCE

International Trade Administration

[C-570-971]

Multilayered Wood Flooring From the People's Republic of China: Notice of Court Decision Not in Harmony With the Results of Countervailing Duty Administrative Review; Notice of Amended Final Results; Correction

AGENCY: Enforcement and Compliance, International Trade Administration, Department of Commerce.

ACTION: Notice; correction.

SUMMARY: The U.S. Department of Commerce (Commerce) published a notice in the Federal Register of September 15, 2025, in which Commerce notified the public that the U.S. Court of International Trade (CIT)'s final judgment in Evolutions Flooring, Inc. et al. v. United States, Consol. Court no. 21-00591 sustained Commerce's remand results pertaining to the administrative review of the countervailing duty order on multilayered wood flooring from the People's Republic of China covering the period January 1, 2018, through December 31, 2018, and is not in harmony with Commerce's final results of the administrative review. This notice notified the public that Commerce is amending the final results with respect to certain companies; however, we incorrectly spelled the name of Dalian Shengyu Science and Technology Development Co., Ltd., the producer/exporter without a superseding cash deposit rate and for which Commerce is revising its cash deposit instruction, within the Federal Register Notice.

FOR FURTHER INFORMATION CONTACT: Jonathan Schueler or Laurel Smalley, AD/CVD Operations, Office VIII, Enforcement and Compliance, International Trade Administration, U.S. Department of Commerce, 1401 Constitution Avenue NW, Washington, DC 20230; telephone: (202) 482-9175 or (202) 482-3456, respectively.

SUPPLEMENTARY INFORMATION:

Background

On September 15, 2025, Commerce published in the Federal Register, Multilayered Wood Flooring from the People's Republic of China: Notice of Court Decision Not in Harmony With the Results of Countervailing Duty Administrative Review; Notice of Amended Final Results.¹ This notice incorrectly spelled the name of Dalian Shengyu Science and Technology Development Co., Ltd., the producer/exporter without a superseding cash deposit rate and for which Commerce is revising its cash deposit instruction.

¹ See Multilayered Wood Flooring from the People's Republic of China: Notice of Court Decision Not in Harmony With the Results of Countervailing Duty Administrative Review; Notice of Amended Final Results, 90 FR 44370 (September 15, 2025).

Correction

In the Federal Register of September 15, 2025, in FR Doc 2025-17777, on page 44371, in the first column, correct the name of the producer/exporter to: Dalian Shengyu Science and Technology Development Co., Ltd.

Additionally, in the Federal Register of September 15, 2025, in FR Doc 2025-17777, on page 44371, in the second column, correct the name of the first producer/exporter listed in Appendix II to: Dalian Shengyu Science and Technology Development Co., Ltd.

Notification to Interested Parties

This notice is issued and published in accordance with sections 516A(c) and (e) and 777(i)(1) of the Act.

Dated: September 17, 2025.
Christopher Abbott,
Deputy Assistant Secretary for Policy and Negotiations, performing the non-exclusive functions and duties of the Assistant Secretary for Enforcement and Compliance.

[FR Doc. 2025-18400 Filed 9-22-25; 8:45 am]

BILLING CODE 3510-DS-P